POSTAL REGULATORY COMMISSION

[Docket No. C2025-7; Presiding Officer's Ruling No. 1]

Complaint

AGENCY: Postal Regulatory Commission.

ACTION: Notice.

SUMMARY: The Commission is providing notice that a prehearing videoconference is being scheduled and providing other case management information.

DATES: Live Videoconference: June 5, 2025, at 11 a.m., eastern daylight time, virtual.

FOR FURTHER INFORMATION CONTACT: David A. Trissell, General Counsel, at 202-789-6820.

SUPPLEMENTARY INFORMATION:

I. Introduction

II. Ruling

I. Introduction

Pursuant to Order No. 8827, the Presiding Officer shall set a procedural schedule, conduct limited discovery, and hear argument and briefing in order to resolve the remaining disputed issues of fact and law in this case.¹ After conducting discovery relevant to the disputed issues identified by the Commission and considering the positions of the parties, the Presiding Officer will provide a public, written intermediate decision including findings of fact and conclusions of law on the relevant issues. To complete these objectives expeditiously, efficiently, and fairly, the Presiding Officer will conduct a prehearing videoconference on Thursday, June 5, 2025, at 11 a.m.²

¹ Order Partially Denying United States Postal Service's Motion to Dismiss the February 5, 2025 Amended Complaint and Notice of Limited Formal Proceedings, May 1, 2025, at 22 (Order No. 8827).

² All times listed in this Ruling are Eastern Daylight Time (EDT).

Complainants and counsel for the Postal Service are directed to meet and confer no later than Tuesday, May 27, 2025, to consider the matters specified in 39 CFR 3010.302(e) and in this Presiding Officer's ruling. The parties are further directed to file on the docket a joint memorandum addressing the pertinent matters, along with any related proposed stipulations and a joint statement clarifying any issues for which the parties cannot agree to a mutually acceptable process, no later than Monday, June 2, 2025, at 4:30 p.m.

Pursuant to Order No. 8827, parties may request that the Presiding Officer obtain specific discovery but may not independently propound discovery requests on each other. Order No. 8827 at 22.

II. Ruling

1. A prehearing videoconference will be conducted before the Presiding Officer on Thursday, June 5, 2025, at 11 a.m.

2. Complainants and counsel for the Postal Service are directed to confer no later than Tuesday, May 27, 2025 to consider the matters specified in 39 CFR 3010.302(e) and in this Presiding Officer's Ruling.

3. The joint prehearing conference memorandum, with any related proposed stipulations and a joint statement clarifying any issues for which the parties cannot agree to a mutually acceptable process, must be filed on the docket no later than Monday, June 2, 2025, at 4:30 p.m.

4. The parties and counsel shall follow the initial case management procedures established by this Presiding Officer's Ruling.

5. The Secretary shall arrange for publication of this ruling (or abstract thereof) in the Federal Register.

Erica A. Barker
Secretary.

[FR Doc. 2025-08759 Filed 5-15-25; 8:45 am]

BILLING CODE 7710-FW-P